DEPARTMENT OF AGRICULTURE

Submission for OMB Review; Comment Request

March 22, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Export Assistance Programs.

OMB Control Number: 0551-0031.

Summary of Collection: The Office of Trade Program (OTP) provides vital services within the Foreign Agricultural Service (FAS) of the U.S. Department of Agriculture. It facilitates trade contacts between U.S. exporters and foreign buyers seeking U.S. food and agricultural products. All of the assistance offered is designed to promote U.S. agricultural exports by helping American exporters make contact with export agents, trading companies, importers, and foreign buyers, thus creating opportunities to sell their products in overseas markets. The specific programs covered by this request for OMB information collection authority are: U.S. Suppliers List, Buyer Alert, Trade Shows, Foreign Buyers List, Export Directory of U.S. Food Distribution Companies, and the Madigan Award. The authority for these program falls under 7 U.S.C. Part 1761, 7 U.S.C. Part 5693 and 7 U.S.C. Part 1765b. FAS will collect information using a combination of forms and telephone interviews.

Need and Use of the Information: FAS will collect information on contact names, mailing addresses, telephones, fax, email, and Web sites. The main purpose for collecting the information is to foster trade contacts in an effort to facilitate greater export of U.S. agriculture food, forestry, and fishery products. The databases are used to recruit U.S. exporters, importers, and buyers to participate in market development activities sponsored by USDA. These databases must be updated periodically to maintain the integrity and usefulness to the trade community.

Description of Respondents: Business or other for-profit.

Number of Respondents: 1,500.

Frequency of Responses: Reporting: Annually.

Total Burden Hours: 693.

Ruth Brown,
Departmental Information Collection Clearance Officer.

[FR Doc. 2012-7327 Filed 3-26-12; 8:45 am]

BILLING CODE 3410-10-P